DEPARTMENT OF ENERGY

Federal Energy Regulatory Commission

[Docket No. RP04-271-000]

Great Lakes Gas Transmission Limited Partnership; Notice of Tariff Filing

May 5, 2004.

Take notice that on April 29, 2004 Great Lakes Gas Transmission Limited Partnership (Great Lakes) tendered for filing as part of its FERC Gas Tariff, Second Revised Volume No. 1, the following tariff sheets, to become effective January 1, 2004:

Ninth Revised Sheet No. 3

Seventh Revised Sheet No. 3A

Eighth Revised Sheet No. 3B

Seventh Revised Sheet No. 3C

Great Lakes states that the tariff sheets listed above are being filed to revise the system and zone maps included in Great Lakes' tariff pursuant to 154.106(c) of the Commission's regulations. The revisions reflect the addition of the Duluth Meter Station and the Lammers Interconnect to the western zone of Great Lakes' system; the closing of the Petoskey Area Office in the central zone; and administrative revisions to the map legend.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1117 Filed 5-12-04; 8:45 am]

BILLING CODE 6717-01-P